NUCLEAR REGULATORY COMMISSION

[Docket No. 50-327]

Biweekly Notice; Applications and Amendments to Facility Operating Licenses Involving No Significant Hazards Considerations; Correction

AGENCY: Nuclear Regulatory Commission.

ACTION: Correction.

SUMMARY: This document corrects a notice appearing in the Federal Register on May 13, 2003 (68 FR 25663), in which the Commission noticed amendments issued since the previous publication of the Biweekly notice. This action is necessary to correct an erroneous Amendment number.

FOR FURTHER INFORMATION CONTACT: Michael L. Marshall, Jr., Office of Nuclear Reactor Regulation, Nuclear Regulatory Commission, telephone 301-415-2734, e-mail: mxm2@nrc.gov.

SUPPLEMENTARY INFORMATION: On page 25663, in the second column, under the heading that reads “Tennessee Valley Authority, Docket No. 50-327, Sequoyah Nuclear Plant, Unit 1, Hamilton County, Tennessee,” Amendment No.: 184 is corrected to read Amendment No.: 284.

Dated at Rockville, Maryland, this 20th day of May 2003.
For the Nuclear Regulatory Commission.
Michael L. Marshall, Jr.,
Senior Project Manager, Section 2, Project Directorate II, Division of Licensing Project Management, Office of Nuclear Reactor Regulation.

[FR Doc. 03-13215 Filed 5-27-03; 8:45 am]

BILLING CODE 7590-01-P